DEPARTMENT OF JUSTICE

Notice of Lodging of Stipulation In In Re Dura Automotive Systems, Inc. Under the Comprehensive Environmental Response, Compensation and Liability Act (CERCLA)

Notice is hereby given that on October 28, 2008, a proposed Stipulation was lodged with the United States Bankruptcy Court for the District of Delaware in In re Dura Automotive Systems, Inc., Case No. 06-11202. The Stipulation between the United States on behalf of the U.S. Environmental Protection Agency (“U.S. EPA”), and Dura Automotive Systems, Inc. and its Debtor subsidiaries, relates to certain liabilities under the Comprehensive Environmental Response, Compensation and Liability Act (“CERCLA”), 42 U.S.C. 9601 et seq., in connection with the Main Street Well Field Superfund Site in Elkhart, Indiana (the “Site”). Pursuant to the proposed Stipulation, the United States will receive allowed claims totaling $621,692 in connection with the Site.

The Department of Justice will receive comments relating to the Stipulation for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Dura Automotive Systems, Inc., DJ Ref. No. 90-11-3-799/2.

The Stipulation may be examined at the Office of the United States Attorney for the District of Delaware, Nemours Building, 1007 North Orange Street, Wilmington, DE 19899, by request to Assistant U.S. Attorney Ellen W. Slights, and at the U.S. EPA Region V, 77 West Jackson Blvd., Chicago, IL 60604. During the public comment period, the Stipulation may also be examined on the following Department of Justice Web site: http://www.usdoj.gov/enrd/Consent_Decrees.html. A copy of the Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury.

William D. Brighton,
Assistant Section Chief, Environmental Enforcement Section, Environment and Natural Resources Division.

[FR Doc. E8-26184 Filed 11-3-08; 8:45 am]

BILLING CODE 4410-15-P